DEPARTMENT OF HEALTH AND HUMAN SERVICES

Health Resources and Services Administration

Advisory Council; Notice of Meeting

In accordance with section 10(a)(2) of the Federal Advisory Committee Act (Pub. L. 92-463), announcement is made of the following National Advisory body scheduled to meet during the month of May 2002:

Name: National Advisory Council on Migrant Health.

Date and Time: May 1, 2002; 9 a.m. to 5 p.m.; May 2, 2002; 9 a.m. to 5 p.m.

Place: Hyatt Regency Indianapolis, 1 South Capitol Avenue, Indianapolis, Indiana. Phone: (317)632-1234; Fax (317)616-6299.

The meeting is open to the public.

Agenda: The agenda includes an overview of general Council business activities and priorities. Topics to be addressed will include dissemination of the Migrant Health Issues Monograph Series and finalizing the 2002 Recommendations and background statements. In addition, the Council will be discussing workforce needs in the expansion of migrant health centers. Finally, the Council will attend the National Association of Community Health Centers' 2002 National Farmworker Health Conference, which is also being held in Indianapolis at this time.

Agenda items are subject to change as priorities indicate.

Contact: Anyone requiring information regarding the subject Council should contact Margaret Davis, staff support to the National Advisory Council on Migrant Health, Migrant Health Program, Bureau of Primary Health Care, Health Resources and Services Administration, 4350 East-West Highway, Bethesda, Maryland 20814, Telephone (301) 594-0291.

Dated: March 25, 2002.
Jane M. Harrison,
Director, Division of Policy Review and Coordination.

[FR Doc. 02-7585 Filed 3-28-02; 8:45 am]

BILLING CODE 4165-15-P